DEPARTMENT OF TRANSPORTATION

Federal Aviation Administration

14 CFR Part 39

[Docket No. FAA-2020-0973; Project Identifier MCAI-2020-01113-T; Amendment 39-21527; AD 2021-09-13]

RIN 2120-AA64

Airworthiness Directives; ATR-GIE Avions de Transport Régional Airplanes

AGENCY: Federal Aviation Administration (FAA), Department of Transportation (DOT).

ACTION: Final rule.

SUMMARY: The FAA is superseding Airworthiness Directives (AD) 2000-23-04 R1 and AD 2018-20-14, which applied to certain ATR-GIE Avions de Transport Régional Model ATR42-500 airplanes. AD 2000-23-04 R1 and AD 2018-20-14 required revising the maintenance or inspection program, as applicable, to incorporate new and/or more restrictive maintenance requirements and airworthiness limitations. This AD requires revising the existing maintenance or inspection program, as applicable, to incorporate new or more restrictive airworthiness limitations; as specified in a European Union Aviation Safety Agency (EASA) AD, which is incorporated by reference. This AD was prompted by the FAA's determination that new or more restrictive airworthiness limitations are necessary. The FAA is issuing this AD to address the unsafe condition on these products.

DATES: This AD is effective June 23, 2021.

The Director of the Federal Register approved the incorporation by reference of a certain publication listed in this AD as of June 23, 2021.

The Director of the Federal Register approved the incorporation by reference of certain other publications listed in this AD as of November 20, 2018 (83 FR 52123, October 16, 2018).

ADDRESSES: For EASA material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. For ATR-GIE service information identified in this AD, contact ATR—GIE Avions de Transport Régional, 1 Allée Pierre Nadot, 31712 Blagnac Cedex, France; telephone +33 (0) 5 62 21 62 21; fax +33 (0) 5 62 21 67 18; email continued.airworthiness@atr aircraft.com; http://www.atr-aircraft.com. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0973.

Examining the AD Docket

You may examine the AD docket on the internet at https://www.regulations.gov by searching fMonday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Shahram Daneshmandi, Aerospace Engineer, Large Aircraft Section, International Validation Branch, FAA, 2200 South 216th St., Des Moines, WA 98198; telephone and fax 206-231-3220; email Shahram.Daneshmandi@faa.gov.

SUPPLEMENTARY INFORMATION:

Background

EASA, which is the Technical Agent for the Member States of the European Union, has issued EASA AD 2020-0263, dated December 1, 2020 (EASA AD 2020-0263) (also referred to as the Mandatory Continuing Airworthiness Information, or the MCAI), to correct an unsafe condition for all Model ATR 42-400 and ATR 42-500 airplanes. Model ATR 42-400 airplanes are not certificated by the FAA and are not included on the U.S. type certificate data sheet; this AD therefore does not include those airplanes in the applicability. Airplanes with an original airworthiness certificate or original export certificate of airworthiness issued after July 7, 2020 must comply with the airworthiness limitations specified as part of the approved type design and referenced on the type certificate data sheet; this AD therefore does not include those airplanes in the applicability.

The FAA issued a supplemental notice of proposed rulemaking (SNPRM) to amend 14 CFR part 39 to supersede AD 2000-23-04 R1, Amendment 39-12174 (66 FR 19381, April 16, 2001) (AD 2000-23-04 R1) and AD 2018-20-14, Amendment 39-19448 (83 FR 52123, October 16, 2018) (AD 2018-20-14). ADs 2000-23-04 R1 and 2018-20-14 applied to certain ATR-GIE Avions de Transport Régional Model ATR42-500 airplanes. The SNPRM published in the Federal Register on February 24, 2021 (86 FR 11169). The FAA preceded the SNPRM with a notice of proposed rulemaking (NPRM) that published in the Federal Register on October 29, 2020 (85 FR 68503). The NPRM was prompted by the FAA's determination that new or more restrictive airworthiness limitations are necessary. The NPRM proposed to require revising the existing maintenance or inspection program, as applicable, to incorporate new or more restrictive airworthiness limitations. The SNPRM proposed to require revising the existing maintenance or inspection program, as applicable, to incorporate new or more restrictive airworthiness limitations, as specified in EASA AD 2020-0263.

The FAA is issuing this AD to address reduced structural integrity of the airplane. See the MCAI for additional background information.

Comments

The FAA gave the public the opportunity to participate in developing this final rule. The FAA received no comments on the SNPRM or on the determination of the cost to the public.

Conclusion

The FAA reviewed the relevant data and determined that air safety and the public interest require adopting this final rule as proposed, except for minor editorial changes. The FAA has determined that these minor changes:

• Are consistent with the intent that was proposed in the SNPRM for addressing the unsafe condition; and

• Do not add any additional burden upon the public than was already proposed in the SNPRM.

The FAA also determined that these changes will not increase the economic burden on any operator or increase the scope of this final rule.

Related Service Information Under 1 CFR Part 51

EASA AD 2020-0263 describes new or more restrictive airworthiness limitations for airplane structures and safe life limits.

This AD also requires the following service information, which the Director of the Federal Register approved for incorporation by reference as of November 20, 2018 (83 FR 52123, October 16, 2018).

• ATR ATR42-400/-500, Time Limits Document (TL), Revision 11, dated May 5, 2015.

• ATR ATR42-400/-500 Time Limits Temporary Revision TR01/17, dated May 3, 2017.

This material is reasonably available because the interested parties have access to it through their normal course of business or by the means identified in the ADDRESSES section.

Costs of Compliance

The FAA estimates that this AD affects 9 airplanes of U.S. registry. The FAA estimates the following costs to comply with this AD:

The FAA estimates the total cost per operator for the retained actions from AD 2018-20-14 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2000-23-04R1, Amendment 39-12174 (66 FR 19381, April 16, 2001); and AD 2018-20-14, Amendment 39-19448 (83 FR 52123, October 16, 2018); and

b. Adding the following new AD:

2021-09-13 ATR-GIE Avions de Transport Régional: Amendment 39-21527; Docket No. FAA-2020-0973; Project Identifier MCAI-2020-01113-T.

(a) Effective Date

This airworthiness directive (AD) is effective June 23, 2021.

(b) Affected ADs

(1) This AD replaces AD 2000-23-04R1, Amendment 39-12174 (66 FR 19381, April 16, 2001) (AD 2000-23-04R1); and AD 2018-20-14, Amendment 39-19448 (83 FR 52123, October 16, 2018) (AD 2018-20-14).

(2) This AD affects AD 2008-04-19 R1, Amendment 39-16069 (74 FR 56713, November 3, 2009) (AD 2008-04-19 R1); and AD 2015-26-09, Amendment 39-18357 (81 FR 1483, January 13, 2016) (AD 2015-26-09).

(c) Applicability

This AD applies to ATR-GIE Avions de Transport Régional Model ATR42-500 airplanes, certificated in any category, with an original airworthiness certificate or original export certificate of airworthiness dated on or before July 7, 2020.

(d) Subject

Air Transport Association (ATA) of America Code 05, Time Limits/Maintenance Checks.

(e) Reason

This AD was prompted by a determination that new or more restrictive airworthiness limitations are necessary. The FAA is issuing this AD to prevent reduced structural integrity of the airplane.

(f) Compliance

Comply with this AD within the compliance times specified, unless already done.

(g) Retained Maintenance or Inspection Program Revision, With Changes

This paragraph restates the requirements of paragraph (g) of AD 2018-20-14, with revised figure designation and reference. For airplanes with an original airworthiness certificate or original export certificate of airworthiness dated on or before May 3, 2017: Within 90 days after November 20, 2018 (the effective date of AD 2018-20-14), revise the maintenance or inspection program, as applicable, to incorporate the information specified in ATR ATR42-400/-500, Time Limits Document (TL), Revision 11, dated May 5, 2015; and ATR ATR42-400/-500 Time Limits Temporary Revision TR01/17, dated May 3, 2017. The initial compliance time for accomplishing the tasks is at the applicable times specified in ATR ATR42-400/-500, Time Limits Document (TL), Revision 11, dated May 5, 2015; and ATR ATR42-400/-500 Time Limits Temporary Revision TR01/17, dated May 3, 2017; or within 90 days after November 20, 2018; whichever occurs later, except for those certification maintenance requirements (CMRs) tasks identified in figure 1 to paragraph (g) of this AD.

(h) Retained Initial Compliance Times for Certain CMR Tasks, With Changes

This paragraph restates the requirements of paragraph (h) of AD 2018-20-14, with revised figure references. For the CMR tasks listed in figure 1 to paragraph (g) of this AD, the initial compliance time for accomplishing the tasks is at the applicable time specified in ATR ATR42-400/-500 Time Limits Temporary Revision TR01/17, dated May 3, 2017; or within the compliance time specified in figure 1 to paragraph (g) of this AD; whichever occurs later.

(i) Retained Restrictions on Alternative Actions, Intervals, and Critical Design Configuration Control Limitations (CDCCLs), With a New Exception.

This paragraph restates the requirements of paragraph (i) of AD 2018-20-14, with a new exception. Except as required by paragraph (j) of this AD, after the maintenance or inspection program, as applicable, has been revised as required by paragraph (g) of this AD, no alternative actions (e.g., inspections), intervals, and/or CDCCLs may be used unless the actions, intervals, and/or CDCCLs are approved as an alternative method of compliance (AMOC) in accordance with the procedures specified in paragraph (n)(1) of this AD.

(j) New Maintenance or Inspection Program Revision

Except as specified in paragraph (k) of this AD: Comply with all required actions and compliance times specified in, and in accordance with, European Union Aviation Safety Agency (EASA) AD 2020-0263, dated December 1, 2020 (EASA AD 2020-0263). Accomplishing the maintenance or inspection program revision required by this paragraph terminates the requirements of paragraph (g) of this AD.

(k) Exceptions to EASA AD 2020-0263

(1) The requirements specified in paragraphs (1) and (2) of EASA AD 2020-0263 do not apply to this AD.

(2) Paragraph (3) of EASA AD 2020-0263 specifies revising “the approved AMP [Aircraft Maintenance Program]” within 12 months after its effective date, but this AD requires revising the existing maintenance or inspection program, as applicable, within 90 days after the effective date of this AD.

(3) The initial compliance time for doing the tasks specified in paragraph (3) of EASA 2020-0263 is at the applicable “thresholds” as incorporated by the requirements of paragraph (3) of EASA AD 2020-0263, or within 90 days after the effective date of this AD, whichever occurs later.

(4) The provisions specified in paragraphs (4) and (5) of EASA AD 2020-0263 do not apply to this AD.

(5) The “Remarks” section of EASA AD 2020-0263 does not apply to this AD.

(l) New Provisions for Alternative Actions, Intervals, and CDCCLs

After the maintenance or inspection program has been revised as required by paragraph (j) of this AD, no alternative actions (e.g., inspections), intervals, and CDCCLs are allowed unless they are approved as specified in the provisions of the “Ref. Publications” section of EASA AD 2020-0263.

(m) Terminating Action for Other ADs

Accomplishing the actions required by paragraph (g) or (j) of this AD terminates all requirements of the ADs specified in paragraphs (m)(1) and (2) of this AD for ATR-GIE Avions de Transport Régional Model ATR42-500 airplanes only.

(1) AD 2008-04-19 R1.

(2) AD 2015-26-09.

(n) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (o) of this AD. Information may be emailed to: 9-AVS-AIR-730-AMOC@faa.gov.

(i) Before using any approved AMOC, notify your appropriate principal inspector, or lacking a principal inspector, the manager of the responsible Flight Standards Office.

(ii) AMOCs approved previously for AD 2018-20-14 are approved as AMOCs for the corresponding provisions of EASA AD 2020-0263 that are required by paragraph (j) of this AD.

(2) Contacting the Manufacturer: For any requirement in this AD to obtain instructions from a manufacturer, the instructions must be accomplished using a method approved by the Manager, Large Aircraft Section, International Validation Branch, FAA; or EASA; or ATR-GIE Avions de Transport Régional's EASA Design Organization Approval (DOA). If approved by the DOA, the approval must include the DOA-authorized signature.

(o) Related Information

For more information about this AD, contact Shahram Daneshmandi, Aerospace Engineer, Large Aircraft Section, International Validation Branch, FAA, 2200 South 216th St., Des Moines, WA 98198; telephone and fax 206-231-3220; email Shahram.Daneshmandi@faa.gov.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on June 23, 2021.

(i) European Union Aviation Safety Agency (EASA) AD 2020-0263, dated December 1, 2020.

(ii) [Reserved]

(4) The following service information was approved for IBR on November 20, 2018 (83 FR 52123, October 16, 2018).

(i) ATR ATR42-400/-500, Time Limits Document (TL), Revision 11, dated May 5, 2015.

(ii) ATR ATR42-400/-500 Time Limits Temporary Revision TR01/17, dated May 3, 2017.

(5) For EASA AD 2020-0263, contact EASA, Konrad-Adenauer-Ufer 3, 50668 Cologne, Germany; telephone +49 221 8999 000; email ADs@easa.europa.eu; Internet www.easa.europa.eu. You may find this EASA AD on the EASA website at https://ad.easa.europa.eu.

(6) For ATR-GIE Avions de Transport Régional material, contact ATR-GIE Avions de Transport Régional, 1 Allée Pierre Nadot, 31712 Blagnac Cedex, France; telephone +33 (0) 5 62 21 62 21; fax +33 (0) 5 62 21 67 18; email continued.airworthiness@atr aircraft.com; http://www.atr-aircraft.com.

(7) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0973.

(8) You may view this material that is incorporated by reference at the National Archives and Records Administration (NARA). For information on the availability of this material at NARA, email fedreg.legal@nara.gov, or go to: https://www.archives.gov/federal-register/cfr/ibr-locations.html.

Issued on April 22, 2021.
Gaetano A. Sciortino,
Deputy Director for Strategic Initiatives, Compliance & Airworthiness Division, Aircraft Certification Service.

[FR Doc. 2021-10463 Filed 5-18-21; 8:45 am]

BILLING CODE 4910-13-P